DEPARTMENT OF ENERGY

Federal Energy Regulatory Commission

[Docket No. RP98-53-000 and GP98-29-000]

Kinder Morgan Interstate Gas Transmission, LLC ONEOK Resources Co.; Notice of Settlement Conference

Issued April 28, 2003.

A settlement conference will be held on Tuesday, May 13, 2003, to address the outstanding ad valorem tax issues in the above dockets. The conference will begin at 10 a.m. and will be held in the offices of Kinder Morgan, 370 Van Gordon Street, Lakewood, Colorado, 80228.

Steven A. Rothman, a mediator with the Commission's Dispute Resolution Service, will mediate the conference. He will be available to communicate in private with any party prior to the conference. If a party has any questions regarding the conference, please call Mr. Rothman at (202) 502-8643 or send an e-mail to Steven.Rothman@ferc.gov. Parties may also communicate with Richard Miles, the Director of the Commission's Dispute Resolution Service at 1 877 FERC ADR (337-2237) or (202) 208-8702. Mr. Miles is also available at Richard.Miles@ferc.gov. If you plan on attending the conference, please contact Bud J. Becker at Kinder Morgan at (303) 763-3496. Kinder Morgan also will arrange for telephone conferencing.

Magalie R. Salas,
Secretary.

[FR Doc. 03-10966 Filed 5-2-03; 8:45 am]

BILLING CODE 6717-01-P